DEPARTMENT OF THE INTERIOR

National Park Service

[NPS-WASO-NAGPRA-10396; 2200-1100-665]

Notice of Intent To Repatriate Cultural Items: American Museum of Natural History, New York, NY; Correction

AGENCY: National Park Service, Interior.

ACTION: Notice; correction.

Notice is here given in accordance with the Native American Graves Protection and Repatriation Act (NAGPRA), 25 U.S.C. 3005, of the intent to repatriate cultural items in the possession of the American Museum of Natural History that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

This notice corrects the cultural affiliation determination reported in the Notice of Intent to Repatriate published in the Federal Register (77 FR 11567-11568, February 27, 2012).

In the Federal Register (77 FR 11568, February 27, 2012), paragraph nine is replaced with the following paragraph:

The cultural affiliation of the 34 cultural items is Hutsnuwu Tlingit, as indicated through museum records and consultation with representatives of Angoon Community Association, Kootznoowoo Incorporated, and Central Council Tlingit and Haida Indian Tribes of Alaska. Chaik Bay lies within the traditional territory of the Hutsnuwu Tlingit. These cultural items were claimed on behalf of the Da_l'aweidi clan.

In the Federal Register (77 FR 11568, February 27, 2012), paragraph 12 is replaced with the following:

• Pursuant to 25 U.S.C. 3001(2), there is a relationship of shared group identity that can be reasonably traced between the unassociated funerary objects and the Angoon Community Association and the Central Council Tlingit and Haida Indian Tribes of Alaska.

Additional Requestors and Disposition

Representatives of any other Indian tribe that believes itself to be culturally affiliated with the unassociated funerary objects should contact Nell Murphy, Director of Cultural Resources, American Museum of Natural History, Central Park West at 79th Street, New York, NY 10024, telephone (212) 769-5837, before November 23, 2012. Repatriation of the unassociated funerary objects to the Angoon Community Association and Central Council Tlingit and Haida Indian Tribes of Alaska may proceed after that date if no additional claimants come forward.

The American Museum of Natural History is responsible for notifying the Angoon Community Association and Central Council Tlingit and Haida Indian Tribes of Alaska that this notice has been published.

Dated: October 16, 2012.
Sherry Hutt,
Manager, National NAGPRA Program.

[FR Doc. 2012-26223 Filed 10-23-12; 8:45 am]

BILLING CODE 4312-50-P